DEPARTMENT OF EDUCATION

[Docket ID ED-2017-OCFO-0013]

Privacy Act of 1974; System of Records

AGENCY: Office of the Chief Financial Officer, Department of Education.

ACTION: Rescindment of System of Records Notice.

SUMMARY: In accordance with the Privacy Act of 1974, the Department of Education (Department) rescinds from its existing inventory of systems of records notices subject to the Privacy Act the system of records notice entitled “Files and Lists of Potential and Current Consultants, Grant Application Reviewers, Peer Reviewers, and Site Visitors” (18-03-04).

DATES: Submit your comments on this rescinded system of records notice on or before May 31, 2017.

This rescinded system of records will become effective May 1, 2017, unless it needs to be changed as a result of public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this rescinded system of records, address them to: Jennifer Sheriff-Parker, Executive Officer, Office of the Chief Financial Officer, U.S. Department of Education, 550 12th Street SW., Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Jennifer Sheriff-Parker, Executive Officer, Office of the Chief Financial Officer, U.S. Department of Education, 550 12th Street SW., Washington, DC 20202. Telephone: (202)245-8440.

If you use a telecommunications device for the deaf or a text telephone, call the Federal Relay Service, toll free, at 1-800-877-8339.

SUPPLEMENTARY INFORMATION: The Department rescinds one system of records notice from its inventory of record systems subject to the Privacy Act of 1974, as amended (Privacy Act) (5 U.S.C. 552a). The rescission is not within the purview of subsection (r) of the Privacy Act, which requires submission of a report on a new or altered system of records.

The following Privacy Act system of records notice is being rescinded because the records contained in this system of records notice are now maintained under the G5 System, which is currently covered by the System of Records Notice entitled “Education's Central Automated Processing System (EDCAPS)” (18-04-04) 80 FR 80331, 80336-80339 (Dec. 24, 2015):

1. Files and Lists of Potential and Current Consultants, Grant Application Reviewers, Peer Reviewers, and Site Visitors (18-03-04), last published in the Federal Register in full at 64 FR 30106, 30118-30119 (June 4, 1999) and subsequently revised at 64 FR 72406 (Dec. 27, 1999).

Thus, the records that were previously covered by this system of records notice will now be covered by the system of records notice for Education's Central Automated Processing System.

Accessible Format: Individuals with disabilities can obtain this document in an accessible format (e.g., braille, large print, audiotape, or compact disc) on request to the person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 25, 2017.
Timothy Soltis,
Deputy Chief Financial Officer.

For the reasons discussed in the preamble, the Deputy Chief Financial Officer, Delegated the Duties of the Chief Financial Officer, rescinds the following system of records:

SYSTEM NUMBER:

(18-03-04)

SYSTEM NAME:

Files and Lists of Potential and Current Consultants, Grant Application Reviewers, Peer Reviewers, and Site Visitors.

HISTORY:

The system of records notice entitled “Files and Lists of Potential and Current Consultants, Grant Application Reviewers, Peer Reviewers, and Site Visitors” was last published in its entirety in the Federal Register at 64 FR 30106 on June 4, 1999, and subsequently corrected in the Federal Register at 64 FR 72406 (Dec. 27, 1999).

[FR Doc. 2017-08722 Filed 4-28-17; 8:45 am]

BILLING CODE 4000-01-P